DEPARTMENT OF LABOR

Employment and Training Administration

[TA-W-52, 517]

Solutia, Inc. Nylon Business Unit Including Leased Workers of Kelly Services Austin Industrial and the Mundy Companies Decatur AL; Amended Certification Regarding Eligibility To Apply for Worker Adjustment Assistance

In accordance with Section 223 of the Trade Act of 1974 (19 USC 2273) the Department of Labor issued a Certification of Eligibility to Apply for Worker Adjustment Assistance on September 22, 2003, applicable to workers of Solutia, Inc., Nylon Business Unit, including leased workers of Kelly Services and Austin Industrial, Decatur, Alabama. The notice was published in Federal Register on November 6, 2003 (68 FR 62834).

At the request of a company official, the Department reviewed the certification for workers of the subject firm. Information provided by the company shows that workers of The Mundy Companies were leased to Solutia, Inc., Nylon Business Unit. Solutia, Inc., produces produce acrylic fibers and chemicals at its Decatur, Georgia plant.

Based on this new information, the Department is amending the certification to include leased workers of The Mundies Companies engaged in activities related to the production of working at Solutia, Inc., Nylon Business Unit, Decatur, Alabama.

The intent of the Department's certification is to include all workers of Solutia, Inc., Nylon Business Unit, who were adversely affected by increased imports.

The amended notice applicable to TA-W-52, 517 is hereby issued as follows:

Workers of Solutia, Inc., Nylon Business Unit, including leased workers of Kelly Services, Austin Industrial and The Mundy Companies, Decatur, Alabama, engaged in employment related to the production of acrylic fibers, Decatur, Alabama, who became totally or partially separated from employment on or after August 5, 2002, through September 22, 2005, are eligible to apply for adjustment assistance under Section 223 of the Trade Act of 1974.

Dated: Signed at Washington, DC, this 11th day of February 2005.
Linda G. Poole,
Certifying Officer, Division of Trade Adjustment Assistance.

[FR Doc. 05-3324 Filed 2-18-05; 8:45 am]

BILLING CODE 4510-30-M